DEPARTMENT OF COMMERCE

International Trade Administration

[C-570-968]

Aluminum Extrusions From the People's Republic of China: Final Results of Countervailing Duty Administrative Review; 2010 and 2011

AGENCY: Enforcement and Compliance, formerly Import Administration, International Trade Administration, Department of Commerce.

SUMMARY: The Department of Commerce (the Department) is conducting an administrative review of the countervailing duty (CVD) order on aluminum extrusions from the People's Republic of China (PRC). On June 10, 2013, the Department published the Preliminary Results for this administrative review.¹ The period of review (POR) is September 7, 2010, through December 31, 2011. We determine that the Alnan Companies ² and Changzhou Changzheng Evaporator Co., Ltd. (Changzheng Evaporator) received countervailable subsidies during the POR.

¹ See Aluminum Extrusions from the People's Republic of China: Preliminary Results of Countervailing Duty Administrative Review; 2010 and 2011, 78 FR 34649 (June 10, 2013) (Preliminary Results), and accompanying Issues and Decision Memorandum.

² The Alnan Companies are Alnan Aluminum Co., Ltd. (Alnan Aluminum), Alnan Aluminum Foil Co., Ltd. (Alnan Foil), Alnan (Shanglin) Industry Co., Ltd. (Shanglin Industry), and Shanglin Alnan Alunimun Comprehensive Utilization Power Co., Ltd. (Shanglin Power). Kromet International Inc., one of the mandatory respondents in this administrative review, reported that it is a Canada-based company that sold subject merchandise produced by the Alnan Companies.

DATES: Effective Date: January 2, 2014.

FOR FURTHER INFORMATION CONTACT: Robert Copyak and Kristen Johnson, AD/CVD Operations, Office III, Enforcement and Compliance, International Trade Administration, U.S. Department of Commerce, 14th Street and Constitution Avenue NW., Washington, DC 20230; telephone (202) 482-2209 and (202) 482-4793, respectively.

Scope of the Order

The merchandise covered by the Order ³ is aluminum extrusions which are shapes and forms, produced by an extrusion process, made from aluminum alloys having metallic elements corresponding to the alloy series designations published by The Aluminum Association commencing with the numbers 1, 3, and 6 (or proprietary equivalents or other certifying body equivalents).⁴

³ See Aluminum Extrusions from the People's Republic of China: Countervailing Duty Order, 76 FR 30653 (May 26, 2011) (Order).

⁴ See “Decision Memorandum for the Final Results of the Countervailing Duty Administrative Review: Aluminum Extrusions from the People's Republic of China,” from Melissa Skinner, Director, Office III, Antidumping and Countervailing Duty Operations, to Christian Marsh, Deputy Assistant Secretary for Antidumping and Countervailing Duty Operations, dated concurrently with this notice (Final Decision Memorandum) for a complete description of the scope of the Order.

Imports of the subject merchandise are provided for under the following categories of the Harmonized Tariff Schedule of the United States (HTSUS): 7610.10.00, 7610.90.00, 7615.10.30, 7615.10.71, 7615.10.91, 7615.19.10, 7615.19.30, 7615.19.50, 7615.19.70, 7615.19.90, 7615.20.00, 7616.99.10, 7616.99.50, 8479.89.98, 8479.90.94, 8513.90.20, 9403.10.00, 9403.20.00, 7604.21.00.00, 7604.29.10.00, 7604.29.30.10, 7604.29.30.50, 7604.29.50.30, 7604.29.50.60, 7608.20.00.30, 7608.20.00.90, 8302.10.30.00, 8302.10.60.30, 8302.10.60.60, 8302.10.60.90, 8302.20.00.00, 8302.30.30.10, 8302.30.30.60, 8302.41.30.00, 8302.41.60.15, 8302.41.60.45, 8302.41.60.50, 8302.41.60.80, 8302.42.30.10, 8302.42.30.15, 8302.42.30.65, 8302.49.60.35, 8302.49.60.45, 8302.49.60.55, 8302.49.60.85, 8302.50.00.00, 8302.60.90.00, 8305.10.00.50, 8306.30.00.00, 8418.99.80.05, 8418.99.80.50, 8418.99.80.60, 8419.90.10.00, 8422.90.06.40, 8479.90.85.00, 8486.90.00.00, 8487.90.00.80, 8503.00.95.20, 8516.90.50.00, 8516.90.80.50, 8708.29.50.60, 8708.80.65.90, 9401.90.50.81, 9403.90.10.40, 9403.90.10.50, 9403.90.10.85, 9403.90.25.40, 9403.90.25.80, 9403.90.40.05, 9403.90.40.10, 9403.90.40.60, 9403.90.50.05, 9403.90.50.10, 9403.90.50.80, 9403.90.60.05, 9403.90.60.10, 9403.90.60.80, 9403.90.70.05, 9403.90.70.10, 9403.90.70.80, 9403.90.80.10, 9403.90.80.15, 9403.90.80.20, 9403.90.80.30, 9403.90.80.41, 9403.90.80.51, 9403.90.80.61, 9506.11.40.80, 9506.51.40.00, 9506.51.60.00, 9506.59.40.40, 9506.70.20.90, 9506.91.00.10, 9506.91.00.20, 9506.91.00.30, 9506.99.05.10, 9506.99.05.20, 9506.99.05.30, 9506.99.15.00, 9506.99.20.00, 9506.99.25.80, 9506.99.28.00, 9506.99.55.00, 9506.99.60.80, 9507.30.20.00, 9507.30.40.00, 9507.30.60.00, 9507.90.60.00, and 9603.90.80.50.

The subject merchandise entered as parts of other aluminum products may be classifiable under the following additional Chapter 76 subheadings: 7610.10, 7610.90, 7615.19, 7615.20, and 7616.99 as well as under other HTSUS chapters. In addition, fin evaporator coils may be classifiable under HTSUS numbers: 8418.99.80.50 and 8418.99.80.60. While HTSUS subheadings are provided for convenience and customs purposes, the written description of the scope of this Order is dispositive.⁵

⁵ See Order.

Analysis of Comments Received

All issues raised in the case briefs and rebuttal briefs are addressed in the Memorandum to Christian Marsh, Deputy Assistant Secretary for Antidumping and Countervailing Duty Operations, entitled “Decision Memorandum for the Final Results of the Countervailing Duty Administrative Review: Aluminum Extrusions from the People's Republic of China” (Final Decision Memorandum), dated concurrently with this notice, which is hereby adopted by this notice. A list of topics discussed in the Final Decision Memorandum is attached to this notice as Appendix I.

The Final Decision Memorandum is a public document and is on file electronically via the Enforcement and Compliance's Antidumping and Countervailing Duty Centralized Electronic Service System (IA ACCESS). IA ACCESS is available to registered users at http://iaaccess.trade.gov and in the Central Records Unit, room 7046 of the main Department of Commerce building. In addition, a complete version of the Final Decision Memorandum can be accessed directly on the internet at http://www.trade.gov/ia/. The signed Final Decision Memorandum and the electronic version of the Final Decision Memorandum are identical in content.

Methodology

The Department has conducted this review in accordance with section 751(a)(1)(A) of the Tariff Act of 1930, as amended (the Act). For each of the subsidy programs found countervailable, we find that there is a subsidy, i.e., a government-provided financial contribution that gives rise to a benefit to the recipient, and that the subsidy is specific. See sections 771(5)(B) and (D) of the Act regarding financial contribution; section 771(5)(E) of the Act regarding benefit; and section 771(5A) of the Act regarding specificity.

In making these findings, we are relying, in part, on facts available because the Government of the PRC did not act to the best of its ability to respond to the Department's requests for information. Further, we are drawing an adverse inference in selecting from among the facts otherwise available. See sections 776(a) and (b) of the Act. For further information, see “Use of Facts Otherwise Available and Adverse Inferences” in the Final Decision Memorandum.

Additionally, we are relying on facts available for three companies ⁶ because they withheld requested information and failed to cooperate by not acting to the best of their ability to respond to the Department's quantity and value questionnaire. To calculate the ad valorem rate for these companies, we have drawn an adverse inference in selecting from among the facts otherwise available.⁷ For derivation of the adverse facts available rate, see “Use of Facts Otherwise Available and Adverse Inferences” in the Final Decision Memorandum.

⁶ Foshan Yong Li Jian Alu. Ltd., North China Aluminum Co., Ltd., and Tai Shan City Kam Kiu Aluminium Extrusion Co. Ltd.

⁷ See sections 776(a) and (b) of the Act.

For a full description of the methodology underlying all of the Department's conclusions, see Final Decision Memorandum.

Rate for Non-Selected Companies Under Review

There are 49 companies for which a review was requested and not rescinded, but were not selected as mandatory respondents. We have not calculated the non-selected rate by weight- averaging the rates of the Alnan Companies and Changzheng Evaporator, because doing so risks disclosure of proprietary information. We, therefore, have calculated an average rate using the respondents' publicly ranged sales data, which are on the record for 2010 and 2011, respectively. For further information on the calculation of the non-selected rate, see “Final Ad Valorem Rate for Non-Selected Companies under Review” and Comment 3 in the Final Decision Memorandum.

Final Results of the Review

In accordance with 19 CFR 351.221(b)(5), we have calculated the listed net subsidy rates for 2010 and 2011:

Company | 2010 ad valorem rate (percent) | 2011 ad valorem rate (percent)
Alnan Aluminum Co., Ltd. (Alnan Aluminum), Alnan Aluminum Foil Co., Ltd. (Alnan Foil), Alnan (Shanglin) Industry Co., Ltd. (Shanglin Industry), and Shanglin Alnan Aluminum Comprehensive Utilization Power Co., Ltd. (Shanglin Power) (collectively, the Alnan Companies) and Kromet International Inc. (Kromet) ⁸ | 15.97 | 15.66
Changzhou Changzheng Evaporator Co., Ltd. and its cross-owned affiliate Liaoning Changzheng Aluminum Company (Changzheng Evaporator) | 1.02 | 1.51
Acro Import and Export Corp | 10.23 | 9.67
Changsha Hengjia Aluminum Co., Ltd | 10.23 | 9.67
Changshu Changsheng Aluminum Products Co., Ltd. (Changsheng) | 10.23 | 9.67
Changzhou Changfa Power Machinery Co., Ltd | 10.23 | 9.67
Changzhou Tenglong Auto Parts Co., Ltd | 10.23 | 9.67
Dongguan Aoda Aluminum Co., Ltd | 10.23 | 9.67
Dongguan Golden Tiger Hardware Industrial Co., Ltd. (Golden Tiger) | 10.23 | 9.67
Dynamic Technologies China Ltd | 10.23 | 9.67
Foreign Trade Co. of Suzhou New & Hi-Tech Industrial Development Zone (Suzhou New Hi Tech) | 10.23 | 9.67
Foshan Shunde Aoneng Electrical Appliances Co., Ltd. (Aoneng Electrical Appliances Co., Ltd.) | 10.23 | 9.67
Global PMX (Dongguan) Co., Ltd (Global PMX) | 10.23 | 9.67
Golden Dragon Precise Copper Tube Group Inc | 10.23 | 9.67
Gree Electric Appliances, Inc. of Zhuhai | 10.23 | 9.67
Guandong Nanhai Foodstuffs Imp & Exp Co., Ltd. (Nanhai) | 10.23 | 9.67
Guangdong Grand Shine Construction Material, Co., Ltd | 10.23 | 9.67
Guangdong Whirlpool Electrical Appliances Co., Ltd. (Guangdong Whirlpool) | 10.23 | 9.67
Guangzhou Mingcan Die-Casting Hardware Products Co., Ltd | 10.23 | 9.67
Hangzhou Xingyi Metal Products Co., Ltd | 10.23 | 9.67
Hanyung Alcobis Co., Ltd | 10.23 | 9.67
Henan New Kelong Electrical Appliances, Co., Ltd | 10.23 | 9.67
Huimeigao Aluminum Foshan Co., Ltd. (Huimeigao) | 10.23 | 9.67
IDEX Dinglee Technology (Tianjin) Co., Ltd. (IDEX Dinglee) | 10.23 | 9.67
Isource Asia Limited (Isource) | 10.23 | 9.67
Jiangsu Changfa Refrigeration Co., Ltd | 10.23 | 9.67
Jiaxing Jackson Travel Products Co., Ltd | 10.23 | 9.67
Jiaxing Taixin Metal Products Co., Ltd | 10.23 | 9.67
Justhere Co., Ltd | 10.23 | 9.67
Kunshan Giant Light Metal Technology Co., Ltd. (Giant) | 10.23 | 9.67
Metaltek Group Co., Ltd | 10.23 | 9.67
Metaltek Metal Industry Co., Ltd | 10.23 | 9.67
Midea International Trading Co., Ltd | 10.23 | 9.67
Pingguo Asia Aluminium Co., Ltd. (Pingguo) | 10.23 | 9.67
Shandong Huasheng Pesticide Machinery Co | 10.23 | 9.67
Shanghai Tongtai Precise Aluminum Alloy Manufacturing Co., Ltd. (Tongtai) | 10.23 | 9.67
Shanxi Guanly Changzhou Hongfeng Metal Processing Co., Ltd | 10.23 | 9.67
Shenzhen Hudson Technology Development Co., Ltd. (Shenzhen Hudson) | 10.23 | 9.67
Shenzhen Jiuyuan Co., Ltd. (aka, Jiuyuan Co., Ltd. and Shenzhen Jiuyuan Import and Export Co., Ltd. (collectively, Jiuyuan)) | 10.23 | 9.67
Sincere Profit Limited | 10.23 | 9.67
Skyline Exhibit Systems (Shanghai) Co., Ltd | 10.23 | 9.67
Suzhou JRP Import & Export Co., Ltd. (JRP) | 10.23 | 9.67
Suzhou NewHongji Precision Part Co., Ltd. (Suzhou NewHongji) | 10.23 | 9.67
Taizhou Lifeng Manufacturing Corporation | 10.23 | 9.67
Tianjin Jinmao Import & Export Corp., Ltd | 10.23 | 9.67
Union Industry (Asia) Co., Ltd | 10.23 | 9.67
Xin Wei Aluminum Company Limited, Guang Dong Xin Wei Aluminum Products Co., Ltd., and Xin Wei Aluminum Co., Ltd. (collectively, Xin Wei) | 10.23 | 9.67
Zhaoqing Asia Aluminum Factory Company Limited | 10.23 | 9.67
Zhejiang Xinlong Industry Co., Ltd | 10.23 | 9.67
Zhongshan Gold Mountain Aluminium Factory Ltd., Gold Mountain International Development, Limited (collectively, Zhongshan Gold Mountain) | 10.23 | 9.67
Zhuhai Runxingtai Electrical Equipment Co., Ltd. (Zhuhai Runxingtai) | 10.23 | 9.67
Foshan Yong Li Jian Alu. Ltd | 121.22 | 121.22
North China Aluminum Co., Ltd | 121.22 | 121.22
Tai Shan City Kam Kiu Aluminium Extrusion Co. Ltd | 121.22 | 121.22

⁸ The Alnan Companies are the producer of subject merchandise, and Kromet is the exporter.

Assessment Rates

The Department intends to issue appropriate assessment instructions directly to U.S. Customs and Border Protection (CBP) 15 days after the date of publication of these final results, to liquidate shipments of subject merchandise entered, or withdrawn from warehouse, for consumption for the periods on or after September 7, 2010, through December 31, 2010, and on or after January 1, 2011, through December 31, 2011, for all the above-listed companies at the ad valorem assessment rate listed above, except for IDEX Dinglee. For IDEX Dinglee, the Department will issue assessment instructions to liquidate any shipments of subject merchandise entered, or withdrawn from warehouse, for consumption for the period December 1, 2011, through December 31, 2011.⁹

⁹ For more information on the assessment instructions covering IDEX Dinglee, see Final Decision Memorandum at Comment 5.

Cash Deposit Instructions

The Department also intends to instruct CBP to collect cash deposits of estimated CVDs in the amounts shown above for 2011 on shipments of subject merchandise entered, or withdrawn from warehouse, for consumption on or after the date of publication of the final results of this review. For all non-reviewed companies, we will instruct CBP to continue to collect cash deposits at the most recent company-specific or country-wide rate applicable to the company. Accordingly, the cash deposit rates that will be applied to companies covered by this order, but not examined in this review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Tariff Act of 1930, as amended.

Dated: December 26, 2013.
Christian Marsh,
Deputy Assistant Secretary for Antidumping and Countervailing Duty Operations.

Appendix I

List of Topics Discussed in the Final Decision Memorandum

1. Summary

2. Background

3. Scope of the Order

4. Use of Facts Otherwise Available and Adverse Inferences

5. Subsidy Valuation Information

6. Loan Benchmark Rates

7. Analysis of Programs

8. Final Ad Valorem Rate for Non-Selected Companies Under Review

9. Final Ad Valorem Rate for Non-Cooperative Companies Under Review

10. Analysis of Comments

11. Conclusion

[FR Doc. 2013-31407 Filed 12-31-13; 8:45 am]

BILLING CODE 3510-DS-P